NUCLEAR REGULATORY COMMISSION

[Docket Nos. STN 50-528, STN 50-529, and STN 50-530]

Arizona Public Service Company, et al. Palo Verde Nuclear Generating Station, Units 1,2, and 3; Notice of Consideration of Approval of Application Regarding Proposed Corporate Restructuring of El Paso Electric Company and Conforming Amendments, and Opportunity for a Hearing

Correction

In notice document 00-28125 beginning on page 65885 in the issue of Thursday, November 2, 2000, make the following correction:

On page 65886, in the second column, in the third full paragraph, in the third line, “December 1, 2000” should read “December 4, 2000”.

[FR Doc. C0-28125 Filed 11-22-00; 8:45 am]

BILLING CODE 1505-01-D

NUCLEAR REGULATORY COMMISSION

[Docket No. 50-298]

Nebraska Public Power District; Notice of Withdrawal of Application for Amendment to Facility Operating License

Correction

In notice document 00-28123 appearing on page 65886 in the issue of Thursday, November 2, 2000, DEPARTMENT OF ENERGY was inadvertently added and should be removed.

[FR Doc. C0-28123 Filed 11-22-00; 8:45 am]

BILLING CODE 1505-01-D

NUCLEAR REGULATORY COMMISSION

[Docket Nos. 50-327 and 50-328]

Tennessee Valley Authority; Notice of Withdrawal of Application for Amendments to Facility Operating Licenses

Correction

In notice document 00-28121 appearing on page 65887 in the issue of Thursday, November 2, 2000, DEPARTMENT OF ENERGY was inadvertently added and should be removed.

[FR Doc. C0-28121 Filed 11-22-00; 8:45 am]

BILLING CODE 1505-01-D

NUCLEAR REGULATORY COMMISSION

[Docket No. 50-328]

Tennessee Valley Authority; Notice of Withdrawal of Application for Amendments to Facility Operating Licenses

Correction

In notice document 00-28122 appearing on page 65887 in the issue of Thursday, November 2, 2000, DEPARTMENT OF ENERGY was inadvertently added and should be removed.

[FR Doc. C0-28122 Filed 11-22-00; 8:45 am]

BILLING CODE 1505-01-D

RAILROAD RETIREMENT BOARD

Privacy Act of 1974; Systems of Records

Correction

In notice document 00-27537 beginning on page 64266 in the issue of Thursday October 26, 2000, make the following correction:

On page 64273, in the third column,ÿ7Eÿ7E in the sixth line from the bottom, “respiratory” should read “repository”

[FR Doc. C0-27537 Filed 11-22-00; 8:45 am]

BILLING CODE 1505-01-D

SMALL BUSINESS ADMINISTRATION

13 CFR Part 121

Small Business Size Standards; Health Care

Correction

In rule document 00-29523 beginning on page 69432 in the issue of Friday, November 17, 2000, make the following correction:

§121.201 [Corrected]

On page 69439, in §121.201, in the table under “Subsector 622-Hospitals”, in the third entry, “$5.0” should read “$25.0”.

[FR Doc. C0-29523 Filed 11-22-00; 8:45 am]

BILLING CODE 1505-01-D